DEPARTMENT OF TRANSPORTATION

Federal Aviation Administration

14 CFR Part 39

[Docket No. FAA-2011-0264; Directorate Identifier 2009-NM-244-AD; Amendment 39-16837; AD 2011-21-14]

RIN 2120-AA64

Airworthiness Directives; Airbus Airplanes

AGENCY: Federal Aviation Administration (FAA), Department of Transportation (DOT).

ACTION: Final rule.

SUMMARY: We are superseding an existing airworthiness directive (AD) that applies to certain Model A300 B4-600, B4-600R, and F4-600R series airplanes, and Model C4-605R Variant F airplanes (collectively called A300-600 series airplanes). This AD results from mandatory continuing airworthiness information (MCAI) originated by an aviation authority of another country to identify and correct an unsafe condition on an aviation product. The MCAI describes the unsafe condition as:

[T]he FAA has published SFAR 88 (Special Federal Aviation Regulation 88).* * *

Under this regulation, all holders of type certificates for passenger transport aeroplanes * * * are required to conduct a design review against explosion risks. The replacement of some types of P-clips and improvement of the electrical bonding of the equipment in the fuel tanks [were] are rendered mandatory. * * *

* * * * *

Subsequently, an internal review * * * led * * * to * * * an additional check [for blue coat] of the bonding points in the centre tank. * * *

More recently, another internal review [introduced] additional work [installing bonding points] for aeroplanes under Configuration 03 * * * and additional work [bonding the fuel jettison system—blanking plates] on the wing tanks for aeroplanes under Configuration 07. * * *

The unsafe condition is damage to wiring in the wing, center, and trim fuel tanks, due to failed P-clips used for retaining the wiring and pipes, which could result in a possible fuel ignition source in the wing, center, or trim fuel tanks. We are issuing this AD to require actions to correct the unsafe condition on these products.

DATES: This AD becomes effective November 23, 2011.

The Director of the Federal Register approved the incorporation by reference of certain publications listed in this AD as of November 23, 2011.

The Director of the Federal Register approved the incorporation by reference of certain other publications as of March 6, 2008 (73 FR 5731, January 31, 2008).

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Dan Rodina, Aerospace Engineer, International Branch, ANM-116, Transport Airplane Directorate, FAA, 1601 Lind Avenue, SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on April 6, 2011 (76 FR 18960), and proposed to supersede AD 2008-03-04, Amendment 39-15353 (73 FR 5731, January 31, 2008). That NPRM (76 FR 18960, April 6, 2011) proposed to correct an unsafe condition for the specified products. The MCAI states:

[T]he FAA has published SFAR 88 (Special Federal Aviation Regulation 88). In their letters referenced 04/00/02/07/01-L296, dated 04 March 2002, and 04/00/02/07/03-L024, dated 03 February 2003, the JAA recommended the application of a similar regulation to the National Aviation Authorities (NAA).

Under this regulation, all holders of type certificates for passenger transport aeroplanes with either a passenger capacity of 30 or more, or a payload capacity of 3,402 kg (7,500 lbs) or more which have received their certification since 01 January 1958, are required to conduct a design review against explosion risks. The replacement of some types of P-clips and improvement of the electrical bonding of the equipment in the fuel tasks are rendered mandatory by this AD.

Initially, EASA AD 2006-0325, which addressed the same unsafe condition, also applied to A300-600 aeroplanes. Airbus subsequently introduced additional work at Revision 1 of SB A300-28-6064 [dated April 3, 2007] applicable to A300-600 aeroplanes. As a result, EASA AD 2006-0325 was revised to remove A300-600 aeroplanes from the applicability, and concurrently EASA AD 2007-0233 was issued, applicable to A300-600 aeroplanes. Unfortunately, the `Applicability' section of EASA AD 2007-0233 was not correctly defined, erroneously deleting one modification in the combination that would exclude aeroplanes from having to comply. Consequently, the AD 2007-0283 was issued, requiring the same actions as AD 2007-0233, which was superseded, but expanded the group of aeroplanes to which AD 2007-0283 applied [FAA AD 2008-03-04 (73 FR 5731, January 31, 2008) corresponds with EASA AD 2007-0283].

Subsequently, an internal review of Airbus SB A300-28-6064 led the manufacturer to correct the figures of the SB. In particular, an additional check [for blue coat] of the bonding points in the centre tank was introduced in Revision 03 of Airbus SB A300-28-6064 [dated December 15, 2008], prompting EASA to issue AD 2009-0143.

More recently, another internal review of Airbus SB A300-28-6064 again resulted in corrected figures in the SB. Additional work on the center tank [installing bonding points] for aeroplanes under Configuration 03 (as defined in the SB [Service Bulletin A300-28-6064, Revision 04, dated August 24, 2009]) and additional work [bonding the fuel jettison system—blanking plates] on the wing tanks for aeroplanes under Configuration 07 have been introduced in Revision 04 of Airbus SB A300-28-6064 [dated August 24, 2009].

For the reason described above, this new AD retains the requirements of EASA AD 2009-0143, which is superseded, and requires the additional work introduced in Revision 04 of Airbus SB A300-28-6064 [dated August 24, 2009].

The unsafe condition is damage to wiring in the wing, center, and trim fuel tanks, due to failed P-clips used for retaining the wiring and pipes, which could result in a possible fuel ignition source in the wing, center, or trim fuel tanks. The required actions also include checking the electrical bonding points of certain equipment in the center fuel tank for the presence of a blue coat and doing related investigative and corrective actions if necessary. The related investigative action is to measure the electrical resistance between the equipment and structure, if a blue coat is not present. The corrective action is to electrically bond the equipment, if the measured resistance is greater than 10 milliohms. You may obtain further information by examining the MCAI in the AD docket.

Comments

We gave the public the opportunity to participate in developing this AD. We considered the comments received.

Request for Extension of Compliance Time

UPS and FedEx requested an extension to the 8-month compliance time specified in the NPRM (76 FR 18960, dated April 6, 2011) in order to accomplish the additional actions. FedEx requested that the compliance time for the additional actions be at the latest of the 40-month compliance time specified in AD 2008-03-04, Amendment 39-15353 (73 FR 5731, January 31, 2008), any alternative methods of compliance that extend that compliance time or within 12 months after the effective date of the new AD. UPS requested that the compliance time be extended to 60 months. UPS stated that the two additional bonding points specified in the NPRM are no more unsafe than the original 264 bonding points required in AD 2008-03-04. UPS noted that it schedules tank entry checks at 60 months and that the original issue of the service information allowed for a 60-month compliance time.

We agree with extending the compliance time and have determined that extending the compliance time to 30 months is appropriate. In developing an appropriate compliance time for this action, we considered the safety implications, parts availability, and normal maintenance schedules for the timely accomplishment of the modification. In consideration of these items, we have determined that a 30-month compliance time will ensure an acceptable level of safety and allow the modifications to be done during scheduled maintenance intervals for most affected operators. We have also coordinated with European Aviation Safety Agency (EASA) on this issue. We have changed the compliance time in paragraph (h) of this AD to “within 30 months after the effective date of this AD.”

Request for Change to Cost of Compliance Work-Hours

FedEx stated that they averaged 800 work-hours versus the 632 work-hours listed in the NPRM (76 FR 18960, dated April 6, 2011) to accomplish the existing modifications. FedEx also stated that 9 work-hours, as specified for the additional actions, may be adequate if done in conjunction with the other modifications; however, additional work-hours will be required for airplanes that have been previously been modified.

We infer that FedEx is requesting that we increase the work-hours estimate to accomplish the existing and new modifications. We do not agree to revise the work-hours. Work-hours may vary among operators. Our estimate is based on the information provided in the relevant service information. We have not changed this AD in this regard.

Request for Material Substitutions

FedEx requested that we add wording to the NPRM (76 FR 18960, dated April 6, 2011) that material substitutions supplied by Airbus are approved for use and do not require an alternative method of compliance (AMOC). FedEx stated that the kits specified in Airbus Service Bulletins A300-28-6064, Revision 01, dated April 3, 2007; A300-28-6068, dated July 20, 2005; and A300-28-6077, Revision 01, dated October 26, 2006; might contain parts that are not listed in the kit description specified in the service information.

We do not agree with the request to revise the AD to include wording that material substitutions are approved for use. Airbus Service Bulletins A300-28-6064, Revision 01, dated April 3, 2007; A300-28-6068, dated July 20, 2005; and A300-28-6077, Revision 01, dated October 26, 2006; contain language in the “Standard Practices” section of paragraph 3.A. “General” of the Accomplishment Instructions that specifies which alternative materials are allowed. We have not changed this AD in this regard.

Request To Update Service Information to Latest Revision

FedEx stated that Airbus has issued Mandatory Service Bulletin A300-28-6064, Revision 05, dated September 27, 2010, and requested that we update our references in the NPRM (76 FR 18960, dated April 6, 2011).

We agree with the request and have updated the references in paragraphs (c)(1), (g)(4), and (h) of this AD to include Airbus Mandatory Service Bulletin A300-28-6064, Revision 05, dated September 27, 2010. Airbus Mandatory Service Bulletin A300-28-6064, Revision 05, dated September 27, 2010, provides clarifications of the actions and materials but contains no substantive changes.

Conclusion

We reviewed the available data, including the comments received, and determined that air safety and the public interest require adopting the AD with the changes described previously. We determined that these changes will not increase the economic burden on any operator or increase the scope of the AD.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 125 products of U.S. registry.

The actions that are required by AD 2008-03-04 Amendment 39-15353 (73 FR 5731, January 31, 2008) and retained in this AD take about 632 work-hours per product, at an average labor rate of $85 per work-hour. Required parts cost about $6,870 per product. Based on these figures, the estimated cost of the currently required actions is $60,590 per product.

We estimate that it will take about 9 work-hours per product to comply with the new basic requirements of this AD. The average labor rate is $85 per work-hour. Required parts will cost about $100 per product. Where the service information lists required parts costs that are covered under warranty, we have assumed that there will be no charge for these parts. As we do not control warranty coverage for affected parties, some parties may incur costs higher than estimated here. Based on these figures, we estimate the cost of this AD to the U.S. operators to be $108,125, or $865 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 18960, dated April 6, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-15353 (73 FR 5731, January 31, 2008) and adding the following new AD:

2011-21-14 Airbus: Amendment 39-16837. Docket No. FAA-2011-0264; Directorate Identifier 2009-NM-244-AD.

Effective Date

(a) This airworthiness directive (AD) becomes effective November 23, 2011.

Affected ADs

(b) This AD supersedes AD 2008-03-04, Amendment 39-15353 (73 FR 5731, January 31, 2008).

Applicability

(c) This AD applies to the airplanes identified in paragraphs (c)(1) and (c)(2) of this AD.

(1) Airbus Model A300 B4-601, B4-603, B4-620, and B4-622 airplanes (without trim tank), all serial numbers, certificated in any category, except airplanes on which Airbus Modifications 12226, 12365, 12490, and 12308 have been incorporated in production, or on which the service bulletins listed in paragraphs (c)(1)(i) and (c)(1)(ii) of this AD have been performed in service.

(i) Airbus Mandatory Service Bulletin A300-28-6064, Revision 04, dated August 24, 2009; or Revision 05, dated September 27, 2010.

(ii) Airbus Service Bulletin A300-28-6068, dated July 20, 2005.

(2) Airbus Model A300 B4-605R, B4-622R, F4-605R, and F4-622R airplanes and A300 C4-605R Variant F airplanes (fitted with a trim tank), all serial numbers, certificated in any category, except airplanes on which Airbus Modifications 12226, 12365, 12490, 12308, 12294, and 12476 have been incorporated in production, or on which the service bulletins listed in paragraphs (c)(2)(i), (c)(2)(ii), and (c)(2)(iii) of this AD have been performed in service.

(i) Airbus Mandatory Service Bulletin A300-28-6064, Revision 03, dated December 15, 2008.

(ii) Airbus Service Bulletin A300-28-6068, dated July 20, 2005.

(iii) Airbus Service Bulletin A300-28-6077, dated July 25, 2005; or Revision 01, dated October 26, 2006.

Subject

(d) Air Transport Association (ATA) of America Code 28: Fuel.

Reason

(e) The mandatory continuing airworthiness information (MCAI) states:

[T]he FAA has published SFAR 88 (Special Federal Aviation Regulation 88). * * *

Under this regulation, all holders of type certificates for passenger transport aeroplanes * * * are required to conduct a design review against explosion risks. The replacement of some types of P-clips and improvement of the electrical bonding of the equipment in the fuel tanks [were] are rendered mandatory * * *.

* * * * *

Subsequently, an internal review * * * led * * * to * * * an additional check [for blue coat] of the bonding points in the centre tank. * * *

More recently, another internal review [introduced] additional work [installing bonding points] for aeroplanes under Configuration 03 * * * and additional work [bonding the fuel jettison system—blanking plates] on the wing tanks for aeroplanes under Configuration 07 * * *.

The unsafe condition is damage to wiring in the wing, center, and trim fuel tanks, due to failed P-clips used for retaining the wiring and pipes, which could result in a possible fuel ignition source in the wing, center, or trim fuel tanks.

Compliance

(f) You are responsible for having the actions required by this AD performed within the compliance times specified, unless the actions have already been done.

Restatement of Requirements of AD 2008-03-04, Amendment 39-15353 (73 FR 5731, January 31, 2008) With Revised Service Information

Actions and Compliance

(g) For airplanes identified in paragraphs (g)(1) and (g)(2) of this AD: Within 40 months after March 6, 2008 (the effective date of AD 2008-03-04, Amendment 39-15353 (73 FR 5731, January 31, 2008)), unless already done, do the applicable actions required by paragraphs (g)(3), (g)(4), and (g)(5) of this AD.

(1) Airbus Model A300 B4-600 series airplanes (without trim tank), all serial numbers, except airplanes on which Airbus Modifications 12226, 12365, 12490, and 12308 have been incorporated in production, or Airbus Service Bulletins A300-28-6064, Revision 01, dated April 3, 2007; and A300-28-6068, dated July 20, 2005; have been performed in service.

(2) Airbus Model A300 B4-600R, A300 C4-600R, and A300 F4-600R series airplanes (fitted with a trim tank), all serial numbers, except airplanes on which Airbus Modifications 12226, 12365, 12490, 12308, 12294, and 12476 have been incorporated in production, or on which the service bulletins listed in paragraphs (g)(2)(i), (g)(2)(ii), and (g)(2)(iii) of this AD have been performed in service.

(i) Airbus Service Bulletin A300-28-6064, Revision 01, dated April 3, 2007.

(ii) Airbus Service Bulletin A300-28-6068, dated July 20, 2005.

(iii) Airbus Service Bulletin A300-28-6077, dated July 25, 2005; or A300-28-6077, Revision 01, dated October 26, 2006.

(3) Remove NSA5516-XXND or NSA5516-XXNJ type P-clips, used in the wing and center fuel tanks to retain wiring and pipes, and replace them by NSA5516-XXNF type P-clips in accordance with the instructions of Airbus Service Bulletin A300-28-6068, dated July 20, 2005.

(4) Check the electrical bonding points in the center tank and do all applicable related investigative and corrective actions, and install additional bonding leads and electrical bonding points in the wing and center fuel tanks in accordance with the instructions of Airbus Service Bulletin A300-28-6064, Revision 01, dated April 3, 2007; Airbus Mandatory Service Bulletin A300-28-6064, Revision 02, dated March 10, 2008; Airbus Mandatory Service Bulletin A300-28-6064, Revision 03, dated December 15, 2008; Airbus Mandatory Service Bulletin A300-28-6064, Revision 04, dated August 24, 2009; or Airbus Mandatory Service Bulletin A300-28-6064, Revision 05, dated September 27, 2010. Do all applicable related investigative and corrective actions before further flight. As of the effective date of this AD, only use Airbus Mandatory Service Bulletin A300-28-6064, Revision 05, dated September 27, 2010.

(5) For airplanes fitted with a trim tank, in addition to the actions defined in paragraphs (g)(3) and (g)(4) of this AD, install bonding leads and electrical bonding points in the trim tanks, in accordance with the instructions of Airbus Service Bulletin A300-28-6077, Revision 01, dated October 26, 2006.

(6) Actions done before March 6, 2008, in accordance with Airbus Service Bulletin A300-28-6064, dated July 28, 2005, for aircraft under configuration 05, as defined in Airbus Service Bulletin A300-28-6064, dated July 28, 2005, are considered acceptable for compliance with the requirements of paragraph (g)(4) of this AD.

(7) Actions done before March 6, 2008, in accordance with Airbus Service Bulletin A300-28-6077, dated July 25, 2005, for aircraft under configuration 05, as defined in Airbus Service Bulletin A300-28-6077, dated July 25, 2005, are considered acceptable for compliance with the requirements of paragraph (g)(5) of this AD.

New Requirments of This AD

Additional Actions

(h) Within 30 months after the effective date of this AD, do the applicable actions required by paragraphs (h)(1), (h)(2), and (h)(3) of this AD.

(1) For airplanes that have been modified before the effective date of this AD in accordance with the Accomplishment Instructions of Airbus Service Bulletin A300-28-6064, dated July 28, 2005, or Revision 01, dated April 3, 2007; or Airbus Mandatory Service Bulletin A300-28-6064, Revision 02, dated March 10, 2008: Do the additional work on the center tank specified in Airbus Mandatory Service Bulletin A300-28-6064, Revision 03, dated December 15, 2008 (i.e., a check for blue coat at additional bonding points and all applicable related investigative and corrective actions), in accordance with the Accomplishment Instructions of Airbus Mandatory Service Bulletin A300-28-6064, Revision 03, dated December 15, 2008; Revision 04, dated August 24, 2009; or Revision 05, dated September 27, 2010. Do all applicable related investigative and corrective actions before further flight.

(2) For configuration 03 airplanes, as defined in Airbus Mandatory Service Bulletin A300-28-6064, Revision 04, dated August 24, 2009; or Revision 05, dated September 27, 2010; that have been modified before the effective date of this AD in accordance with the Accomplishment Instructions of Airbus Service Bulletin A300-28-6064, Revision 01, dated April 3, 2007; or Airbus Mandatory Service Bulletin A300-28-6064, Revision 02, dated March 10, 2008, or Revision 03, dated December 15, 2008: Do the additional work on the center tank (i.e., install bonding points), in accordance with the Accomplishment Instructions of Airbus Mandatory Service Bulletin A300-28-6064, Revision 04, dated August 24, 2009; or Revision 05, dated September 27, 2010.

(3) For configuration 07 airplanes, as defined in Airbus Mandatory Service Bulletin A300-28-6064, Revision 04, dated August 24, 2009; or Revision 05, dated September 27, 2010; that have been modified before the effective date of this AD in accordance with the Accomplishment Instructions of Airbus Service Bulletin A300-28-6064, dated July 28, 2005; or Revision 01, dated April 3, 2007; or Airbus Mandatory Service Bulletin A300-28-6064, Revision 02, dated March 10, 2008, or Revision 03, dated December 15, 2008: Do the additional work on the wing tanks (i.e., bond the fuel jettison system—blanking plates), in accordance with the Accomplishment Instructions of Airbus Mandatory Service Bulletin A300-28-6064, Revision 04, dated August 24, 2009; or Revision 05, dated September 27, 2010.

FAA AD Differences

Note 1: This AD differs from the MCAI and/or service information as follows: The MCAI provides a compliance time of 8 months to do the actions specified in paragraph (h) of this AD. This AD requires that the actions specified in paragraph (h) of this AD be done within 30 months.

Other FAA AD Provisions

(i) The following provisions also apply to this AD:

(1) Alternative Methods of Compliance (AMOCs): The Manager, International Branch, ANM-116, FAA, has the authority to approve AMOCs for this AD, if requested using the procedures found in 14 CFR 39.19. Send information to ATTN: Dan Rodina, Aerospace Engineer, International Branch, ANM-116, Transport Airplane Directorate, FAA, 1601 Lind Avenue, SW., Renton, Washington 98057-3356; telephone (425) 227-2125; fax (425) 227-1149. Before using any approved AMOC, notify your appropriate principal inspector, or lacking a principal inspector, the manager of the local flight standards district office/certificate holding district office. The AMOC approval letter must specifically reference this AD. AMOCs approved previously in accordance with AD 2008-03-04, Amendment 39-15353 (73 FR 5731, January 31, 2008), are approved as AMOCs for the corresponding provisions of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(j) Refer to MCAI EASA Airworthiness Directive 2010-0074, dated April 16, 2010, and the following service information, for related information.

(1) Airbus Mandatory Service Bulletin A300-28-6064, Revision 03, dated December 15, 2008.

(2) Airbus Mandatory Service Bulletin A300-28-6064, Revision 04, dated August 24, 2009.

(3) Airbus Mandatory Service Bulletin A300-28-6064, Revision 05, dated September 27, 2010.

(4) Airbus Service Bulletin A300-28-6068, dated July 20, 2005.

(5) Airbus Service Bulletin A300-28-6077, Revision 01, dated October 26, 2006.

Material Incorporated by Reference

(k) You must use the following service information to do the actions required by this AD, unless the AD specifies otherwise. The Director of the Federal Register approved the incorporation by reference (IBR) under 5 U.S.C. 552(a) and 1 CFR Part 51 of the following service information on the date specified.

(1) Airbus Mandatory Service Bulletin A300-28-6064, Revision 03, dated December 15, 2008, approved for IBR November 23, 2011.

(2) Airbus Mandatory Service Bulletin A300-28-6064, Revision 04, dated August 24, 2009, approved for IBR November 23, 2011.

(3) Airbus Mandatory Service Bulletin A300-28-6064, Revision 05, dated September 27, 2010, approved for IBR November 23, 2011.

(4) Airbus Service Bulletin A300-28-6068, dated July 20, 2005, approved for IBR on March 6, 2008 (73 FR 5731, January 31, 2008).

(5) Airbus Service Bulletin A300-28-6077, Revision 01, dated October 26, 2006, approved for IBR on March 6, 2008 (73 FR 5731, January 31, 2008).

(6) For service information identified in this AD, contact Airbus SAS—EAW (Airworthiness Office), 1 Rond Point Maurice Bellonte, 31707 Blagnac Cedex, France; telephone +33 5 61 93 36 96; fax +33 5 61 93 44 51; e-mail: account.airworth-eas@airbus.com; Internet http://www.airbus.com.

(7) You may review copies of the service information at the FAA, Transport Airplane Directorate, 1601 Lind Avenue, SW., Renton, Washington. For information on the availability of this material at the FAA, call 425-227-1221.

(8) You may also review copies of the service information that is incorporated by reference at the National Archives and Records Administration (NARA). For information on the availability of this material at NARA, call 202-741-6030, or go to: http://www.archives.gov/federal_register/code_of_federal_regulations/ibr_locations.html.

Issued in Renton, Washington, on October 3, 2011.
Ali Bahrami,
Manager, Transport Airplane Directorate, Aircraft Certification Service.

[FR Doc. 2011-26257 Filed 10-18-11; 8:45 am]

BILLING CODE 4910-13-P